ENVIRONMENTAL PROTECTION AGENCY

[FRL 7127-9]

EPA Science Advisory Board; Notification of Public Advisory Committee Meeting

Pursuant to the Federal Advisory Committee Act, Pub. L. 92-463, notice is hereby given that the Ecological Reporting Panel of the US EPA Science Advisory Board's (SAB) Ecological Processes and Effects Committee (EPEC) will conduct a public teleconference on February 8, 2002 from 12:00 noon to 3:00 pm Eastern Standard Time.

Purpose of the Meeting—The purpose of the meeting will be to finalize the Panel's report, A Framework for Reporting on Ecological Condition. The report is a result of a strategic project begun by the Ecological Processes and Effects Committee several years ago to assist the Agency to more systematically assess and report on the condition of ecological resources for decision-makers and the public. The strategic project arose from the Committee's experience reviewing a number of Agency programs and projects such as those designed to assess ecological risks, define biological criteria, monitor and report on watershed condition. Given the time frame of the strategic project, and the need to set it aside from time to time to conduct priority peer reviews for the Agency, new members were appointed to EPEC over the course of the project and the terms of other members ended. For this reason, the current Ecological Reporting Panel is composed of a subset of both past and present members of EPEC and is reporting directly to the SAB Executive Committee.

Availability of Review Materials—Because the Panel is not conducting a review, there are no Agency materials associated with the meeting. When the Panel reaches agreement on the draft report, it will be forwarded to the SAB Executive Committee for their consideration. At that time, the draft report will be posted to the SAB Website (http://www.epa.gov/sab).

For Further Information—Any member of the public wishing further information concerning this meeting or wishing to submit brief oral comments (3 minutes or less) must contact Ms. Stephanie Sanzone, Designated Federal Officer, EPA Science Advisory Board (1400A), U.S. Environmental Protection Agency, 1200 Pennsylvania Avenue, NW., Washington, DC 20460; telephone (202) 564-4561; FAX (202) 501-0582; or via e-mail at sanzone.stephanie@epa.gov. Requests for oral comments must be in writing (e-mail, fax or mail) and received by Ms. Sanzone no later than noon Eastern Time on February 5, 2002. Additional instructions on how to participate in the conference call may be obtained by contacting Mary Winston at (202) 564-4538, or via e-mail at winston.mary@epa.gov.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the EPA Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact the Ms. Sanzone at least five business days prior to the meeting so that appropriate arrangements can be made.

Donald G. Barnes,
Staff Director, EPA Science Advisory Board.

[FR Doc. 02-703 Filed 1-10-02; 8:45 am]

BILLING CODE 6560-50-P